DEPARTMENT OF HEALTH AND HUMAN SERVICES

Administration for Children and Families

Submission for OMB Review; Comment Request

Title: Federal Tax Offset, Administrative Offset, and Passport Denial Program.

OMB No.: 0970-0161.

Description: The Tax Refund Offset and Administrative Offset Programs collect past-due child support by intercepting certain federal payments, including federal tax refunds, of parents who have been ordered to pay child support and are behind in paying the debt. The program is a cooperative effort including the Department of Treasury's Financial Management Service (FMS), the Federal Office of Child Support Enforcement (OCSE) and state Child Support Enforcement (CSE) agencies. The Passport Denial Program reports non-custodial parents who owe arrears above a threshhold to the Departement of State (DOS), which will then deny passports to these individuals. On an ongoing basis, CSE agencies submit to OCSE the names, Social Security numbers (SSNs) and the amount(s) of past-due child support of people who are deliquent in making child support payments.

Respondents: State IV-D Agencies.

Annual Burden Estimates
Instrument | Number of respondents | Number of responses per respondent | Average burden hours per response | Total burden hours
Input Record | 54 | 52 | .3 hours | 842.4 hours.
Output Record | 54 | 52 | .46 hours | 1292 hours.
Payment File | 54 | 26 | .27 hours | 379 hours.
Certification Letter | 54 | 1 | .4 hours | 21.6 hours.

Estimated Total Annual Burden Hours: 2535 hours.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: katherine_t._astrich@omb.eop.gov.

Dated: February 26, 2004.
Robert Sargis,
Reports Clearance Officer.

[FR Doc. 04-4752 Filed 3-2-04; 8:45 am]

BILLING CODE 4184-01-M